DEPARTMENT OF LABOR

Employment and Training Administration

Comment Request for Information Collection for Migrant and Seasonal Farmworkers (MSFWs) Monitoring Report and Complaint/Referral Records (Extension Without Revisions)

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The PRA helps ensure that respondents can provide requested data in the desired format with minimal reporting burden (time and financial resources), collection instruments are clearly understood, and the impact of collection requirements on respondents can be properly assessed.

Currently, ETA is soliciting comments concerning the routine three year extension of the expiration date for two forms which collect data: ETA 5148, Services to Migrant and Seasonal Farmworkers Report, and ETA 8429, Complaint/Referral Record (currently due to expire April 30, 2015).

DATES: Submit written comments to the office listed in the addresses section below on or before January 5, 2015.

ADDRESSES: Send written comments to Kimberly Vitelli, Office of Workforce Investment, Room C4510, Employment and Training Administration, U.S. Department of Labor, 200 Constitution Avenue NW., Washington, DC 20210. Telephone number: 202-693-3639 (this is not a toll-free number). Individuals with hearing or speech impairments may access the telephone number above via TTY by calling the toll-free Federal Information Relay Service at 1-877-889-5627 (TTY/TDD). Fax: 202- 693-3015. Email: Vitelli.Kimberly@dol.gov. To obtain a copy of the proposed information collection request (ICR), and for further information, please contact the person listed above or Juan Regalado at Regalado.Juan@dol.gov, telephone number: 415-625-7904 (this is not a toll-free number).

SUPPLEMENTARY INFORMATION:

I. Background

Employment and Training Administration (ETA) regulations at 20 CFR 651, 653, and 658 under the Wagner-Peyser Act, as amended by the 1998 Workforce Investment Act (WIA), set forth the requirements to ensure that Migrant and Seasonal Farmworkers (MSFWs) receive services that are qualitatively equivalent and quantitatively proportionate to the services provided to non-MSFWs. The Workforce Innovation and Opportunity Act, enacted July 22, 2014, supersedes WIA and becomes effective July 1, 2015. Therefore this information collection may be adjusted in the future, through a formal public comment process.

Quarterly MSFW reporting is required by 20 CFR 653.108 (q), which mandates State Workforce Agencies (SWAs) to review their performance on a quarterly basis to ensure compliance with CFR 653.100. The data collected represents the minimum information necessary to assure SWA compliance with federal regulations. (See 20 CFR 653.100 through 653.113).

The regulations at 20 CFR 658.400 through 658.418 ensure that SWAs handle complaints appropriately and uniformly. The One-Stop Career Center (OSCC) Complaint/Referral Record, ETA 8429 is required to be used by SWAs to process complaints pursuant to 20 CFR 658.413. (See 20 CFR 658.400 through 658.418)

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: extension without revisions.

Title: Migrant and Seasonal Farmworkers (MSFWs) Monitoring Report and Complaint/Referral Records.

OMB Number: 1205-0039.

Affected Public: individuals and households, and state/local/tribal governments.

Estimated Total Annual Respondents: 3586.

Estimated Total Annual Responses: 3786.

Estimated Total Annual Burden Hours: 8521.

Total Estimated Annual Other Costs Burden: 0.

We will summarize and/or include in the request for OMB approval of the ICR, the comments received in response to this comment request; they will also become a matter of public record.

Portia Wu,
Assistant Secretary for Employment and Training, Labor.

[FR Doc. 2014-26169 Filed 11-3-14; 8:45 am]

BILLING CODE 4510-FN-P